DEPARTMENT OF TRANSPORTATION

Surface Transportation Board

[STB Finance Docket No. 34333 (Sub—No. 1)]

Union Pacific Railroad Company—Trackage Rights Exemption—The Burlington Northern and Santa Fe Railway Company

AGENCY: Surface Transportation, Board DOT.

ACTION: Petition for partial revocation.

SUMMARY: The Board, under 49 U.S.C. 10502, exempts the temporary trackage rights arrangement between Union Pacific Railroad Company (UP) and the Burlington Northern and Santa Fe Railway Company (BNSF) described in STB Finance Docket No. 34333,¹ to permit it to expire on or about May 10, 2003.

¹ The temporary trackage rights exempted in Union Pacific Railroad Company—Trackage Rights Exemption—The Burlington Northern and Santa Fe Railway Company, STB Finance Docket No. 34333 (STB served May 2, 2003), are over BNSF's rail line from BNSF milepost 141.7 near Rockview, MO, to BNSF milepost 422.2 near Jonesboro, AR, a distance of approximately 181.6 miles.

DATES: This exemption is effective on May 9, 2003. Petitions to reopen must be filed by June 4, 2003.

ADDRESSES: An original and 10 copies of all pleadings referring to STB Finance Docket No. 34333 (Sub-No. 1) must be filed with the Surface Transportation Board, 1925 K Street, NW., Washington DC 20423-0001. In addition, a copy of all pleadings must be served on petitioner's representative: T. Christopher Lewis, 1416 Dodge Street, Room 830, Omaha, NE 68179.

FOR FURTHER INFORMATION CONTACT: Beryl Gordon, (202) 565-1600. (Assistance for the hearing impaired is available through the Federal Information Relay Service (FIRS) at 1-800-877-8339.)

SUPPLEMENTARY INFORMATION: Additional information is contained in the Board's decision. Copies of the decision may be purchased from D̄a 2 D̄a Legal Copy Service by calling (202) 293-7776 (assistance for the hearing impaired is available through FIRS at 1-800-877-8339) or by visiting Suite 405, 1925 K Street, NW., Washington DC 20006.

Board decisions and notices are available on our Web site at www.stb.dot.gov.

Decided: May 9, 2003.
By the Board, Chairman Nober and Commissioner Morgan.
Vernon A. Williams,
Secretary.

[FR Doc. 03-12139 Filed 5-14-03; 8:45 am]

BILLING CODE 4915-00-P